SECURITIES AND EXCHANGE COMMISSION

[Release No. 34-100880; File No. SR-CBOE-2024-008]

Self-Regulatory Organizations; Cboe Exchange, Inc.; Notice of Designation of a Longer Period for Commission Action on Proceedings To Determine Whether To Approve or Disapprove a Proposed Rule Change To Adopt a New Rule Regarding Order and Execution Management Systems

August 30, 2024.

On February 13, 2024, Cboe Exchange, Inc. (the “Exchange”) filed with the Securities and Exchange Commission (“Commission”), pursuant to Section 19(b)(1) of the Securities Exchange Act of 1934 (“Act”) ¹ and Rule 19b-4 thereunder,² a proposal to adopt a new rule regarding order and execution management systems. The proposed rule change was published for comment in the Federal Register on March 5, 2024.³ The Commission has received comment letters regarding the proposed rule change.⁴

¹ 15 U.S.C. 78s(b)(1).

² 17 CFR 240.19b-4.

³ See Securities Exchange Act Release No. 99620 (February 28, 2024), 89 FR 15907 (“Notice”).

⁴ The public comment file for SR-CBOE-2024-008 is available on the Commission's website at https://www.sec.gov/comments/sr-cboe-2024-008/srcboe2024008.htm.

On April 16, 2024, pursuant to Section 19(b)(2) of the Act,⁵ the Commission designated a longer period within which to approve the proposed rule change, disapprove the proposed rule change, or institute proceedings to determine whether to approve or disapprove the proposed rule change.⁶ On May 31, 2024, the Commission instituted proceedings under Section 19(b)(2)(B) of the Act ⁷ to determine whether to approve or disapprove the proposed rule change.⁸

⁵ 15 U.S.C. 78s(b)(2).

⁶ See Securities Exchange Act Release No. 99963 (April 16, 2024), 89 FR 29389 (April 22, 2024).

⁷ 15 U.S.C. 78s(b)(2)(B).

⁸ See Securities Exchange Act Release No. 100056 (May 31, 2024), 89 FR 48463 (June 6, 2024).

Section 19(b)(2) of the Act ⁹ provides that, after initiating proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for comment in the Federal Register on March 5, 2024.¹⁰ The 180th day after publication of the proposed rule change is September 1, 2024. The Commission is extending the time period for approving or disapproving the proposed rule change for an additional 60 days.

⁹ 15 U.S.C. 78s(b)(2).

¹⁰ See supra note 3.

The Commission finds that it is appropriate to designate a longer period within which to issue an order approving or disapproving the proposed rule change so that it has sufficient time to consider the proposed rule change and the issues raised therein. Accordingly, the Commission, pursuant to Section 19(b)(2) of the Act,¹¹ designates October 31, 2024, as the date by which the Commission shall either approve or disapprove the proposed rule change (File No. SR-CBOE-2024-008).

¹¹ 15 U.S.C. 78s(b)(2).

For the Commission, by the Division of Trading and Markets, pursuant to delegated authority.¹²
¹² 17 CFR 200.30-3(a)(57).
Sherry R. Haywood,
Assistant Secretary.

[FR Doc. 2024-19950 Filed 9-4-24; 8:45 am]

BILLING CODE 8011-01-P